NUCLEAR REGULATORY COMMISSION

[NRC-2011-0183]

Draft Policy Statement on Volume Reduction and Low-Level Radioactive Waste Management

AGENCY: Nuclear Regulatory Commission.

ACTION: Reopening of comment period.

SUMMARY: On August 15, 2011 (76 FR 50500), the U.S. Nuclear Regulatory Commission (NRC) published for public comment a draft Policy Statement on Volume Reduction and Low-Level Radioactive Waste Management that updates the 1981 Policy Statement on Low-Level Waste Volume Reduction. The revised Policy Statement acknowledges that volume reduction continues to be important, but that risk-informed, performance-based approaches to managing waste are also needed to safely manage Low-Level Radioactive Waste. The public comment period closed on September 14, 2011. The NRC has decided to reopen the comment period until October 14, 2011, in response to a request from advocacy groups.

DATES: The comment period has been reopened and expires on October 14, 2011. Comments received after this date will be considered if it is practical to do so, but the NRC is able to assure consideration only for comments received on or before this date.

ADDRESSES: Please include Docket ID NRC-2011-0183 in the subject line of your comments. For additional instructions on submitting comments and instructions on accessing documents related to this action, see “Submitting comments and Accessing Information” in the SUPPLEMENTARY INFORMATION section of this document. You may submit comments by any one of the following methods:

Federal Rulemaking Web Site: Go to http://www.regulations.gov and search for documents filed under Docket ID NRC-2011-0183. Address questions about NRC dockets to Carol Gallagher, telephone: 301-492-3668; e-mail: Carol.Gallagher@nrc.gov.

Mail comments to: Cindy Bladey, Chief, Rules, Announcements, and Directives Branch (RADB), Office of Administration, Mail Stop: TWB-05-B01M, U.S. Nuclear Regulatory Commission, Washington, DC 20555-0001.

Fax comments to: RADB at 301-492-3446.

FOR FURTHER INFORMATION CONTACT: Donald Lowman, Office of Federal and State Materials and Environmental Management Programs, Division of Waste Management and Environmental Protection, U.S. Nuclear Regulatory Commission, Washington, DC 20555-0001, telephone: 301-415-5452, e-mail: Donald.Lowman@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this notice using the following methods:

NRC's Public Document Room (PDR): The public may examine and have copied, for a fee, publicly available documents at the NRC's PDR, O1-F21, One White Flint North, 11555 Rockville Pike, Rockville, Maryland 20852.

NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft Policy Statement is available electronically under ADAMS Accession Number ML112060294.

Federal Rulemaking Web Site: Public comments and supporting materials related to this notice can be found at http://www.regulations.gov by searching on Docket ID NRC-2011-0183.

Reopening Comment Period

The NRC is reopening the comment period for the draft Policy Statement on Volume Reduction and Low-Level Radioactive Waste Management in response to a combined request from Nuclear Information & Resource Service, HEAL UTAH, Sierra Club Nuclear Issues Action Team, Tennessee Sierra Club, South Carolina Sierra Club, Military Toxics Project, Tennessee Environmental Council, We The People, Inc. of the US, Institute for Energy and Environmental Research, Friends of the Earth, SEED Coalition, Public Citizen TX, and Citizens to ENDIT—End Nuclear Dumping in Tennessee. The comment period will close on October 14, 2011.

Dated at Rockville, Maryland, this 14th day of September, 2011.
For the Nuclear Regulatory Commission.
Janelle Jessie,
Acting Chief, Low-Level Waste Branch, Division of Waste Management and Environmental Protection, Office of Federal and State Materials and Environmental Management Programs.

[FR Doc. 2011-24226 Filed 9-20-11; 8:45 am]

BILLING CODE 7590-01-P